DEPARTMENT OF COMMERCE

National Oceanic and Atmospheric Administration

[RTID 0648-XE888]

North Pacific Fishery Management Council; Public Meeting

AGENCY: National Marine Fisheries Service (NMFS), National Oceanic and Atmospheric Administration (NOAA), Commerce.

ACTION: Notice of public meeting.

SUMMARY: The Cook Inlet Salmon Stock Assessment Modeling Workshop will be held in-person and online over two days.

DATES: The meeting will be held on Monday, May 19, 2025 through Tuesday, May 20, 2025, from 9 a.m. to 4 p.m., Alaska time.

ADDRESSES: The meeting will be a hybrid meeting. The in-person component of the meeting will be held at the Ted Stevens Marine Research Institute, Royce Room (131), 17190 Point Lena Loop Road, Juneau, AK 99801. You can also join online through the link https://meetings.npfmc.org/Meeting/Details/3069. Instructions for attending the meeting are given under Supplementary Information below. If you wish to attend in person please contact Diana Stram (diana.stram@noaa.gov) in advance to assist with access logistics for the federal lab.

FOR FURTHER INFORMATION CONTACT: Diana Stram, Senior Scientist, NPFMC; phone: (907) 271-2809; email: diana.stram@noaa.gov. For technical support, please contact Council administrative staff, email: npfmc.admin@noaa.gov.

SUPPLEMENTARY INFORMATION:

Agenda

The workshop objective is to prepare for the 2026 specifications process for the final Cook Inlet Salmon SAFE report. This is a technical workshop to address assessment related feedback from the SSC during the 2024 and 2025 assessment cycles. This includes methodological comments on the Tier designations for all 7 stocks as well as the calculation of the overfishing limit (OFL), the minimum stock size threshold (MSST), acceptable biological catch (ABC) and appropriate buffer levels for these stocks. Additional topics will include the structure of the SAFE report, data needs and availability, potential stock prioritization for future consideration and the development of draft risk tables. The agenda is subject to change, and the latest version will be posted at https://meetings.npfmc.org/Meeting/Details/3069 prior to the meeting, along with meeting materials.

Connection Information

You can attend the meeting online using a computer, tablet, or smart phone, or by phone only. Connection information will be posted online at: https://meetings.npfmc.org/Meeting/Details/3069.

Public Comment

Public comment letters will be accepted and should be submitted electronically to https://meetings.npfmc.org/Meeting/Details/3069.

Authority: 16 U.S.C. 1801 et seq.

Dated: April 29, 2025.
Rey Israel Marquez,
Acting Deputy Director, Office of Sustainable Fisheries, National Marine Fisheries Service.

[FR Doc. 2025-07720 Filed 5-2-25; 8:45 am]

BILLING CODE 3510-22-P